DEPARTMENT OF THE TREASURY

Treasury International Capital Form SLT: Report of Aggregate Holdings of Long-Term Securities by U.S. and Foreign Residents

AGENCY: Departmental Offices, Department of the Treasury.

ACTION: Notice of reporting requirements.

SUMMARY: By this Notice, the Department of the Treasury is informing the public that it is conducting a mandatory monthly collection of information on cross-border ownership by U.S. and foreign residents of long-term securities for portfolio investment purposes. This mandatory collection is conducted under the authority of 22 U.S.C. 286f; 22 U.S.C. 3103; E.O. 11961; E.O. 10033; and 31 CFR part 128. This Notice constitutes legal notification to all United States persons (defined below) who are in the reporting panel set forth in this Notice that they must respond to, and comply with, this collection of information. Copies of the Form SLT report and instructions may be printed from the Internet at: http://www.treasury.gov/resource-center/data-chart-center/tic/Pages/forms.aspx.

Definition: A U.S. person is any individual, branch, partnership, associated group, association, estate, trust, corporation, or other organization (whether or not organized under the laws of any State), and any government (including a foreign government, the United States Government, a State or local government, and any agency, corporation, financial institution, or other entity or instrumentality thereof, including a government-sponsored agency), who resides in the United States or is subject to the jurisdiction of the United States.

Who Must Report: The reporting panel for the Form SLT consists of all U.S. persons who are U.S.-resident custodians (including U.S.-resident central securities depositories), U.S.-resident issuers of U.S. securities, or U.S.-resident end-investors in foreign securities, where for each reporting entity, the consolidated total of all reportable long-term U.S. and foreign securities on the last business day of the reporting month has a total fair value equal to or more than the exemption level. The exemption level is $1 billion. This consolidated total includes amounts held for a reporting entity's own account and for customers. The reporting entity should include reportable securities for all U.S.-resident parts of the reporting entity, including all U.S. subsidiaries and affiliates of the reporting entity and investment companies, trusts, and other legal entities created by the reporting entity. U.S.-resident entities include the affiliates in the United States of foreign entities. A custodian is a bank or other entity that manages or administers the custody or safekeeping of securities or other assets for institutional or private investors. End-investors include funds and investment managers.

What to Report: Reportable long-term securities (including equities) include: (1) U.S. securities held by U.S.-resident custodians on behalf of foreign residents; (2) foreign securities held by U.S.-resident custodians on behalf of U.S. residents; (3) U.S. securities issued by U.S.-resident issuers in foreign markets and held directly by foreign residents, i.e., where no U.S.-resident custodian or U.S.-resident central securities depository is used by the U.S.-resident issuer; and (4) foreign securities held directly by U.S.-resident end-investors, i.e., where no U.S.-resident custodian is used by the U.S.-resident end-investor. Securities held as part of a direct investment relationship should not be reported.

How to Report: Form SLT consists of Parts A and B. Part A is required to be completed by U.S.-resident custodians. Part B is required to be completed by U.S.-resident issuers and U.S.-resident end-investors, including funds and investment managers. If a reporting entity is both a U.S.-resident custodian and a U.S.-resident issuer and/or a U.S.-resident end-investor, then both Parts A and B must be completed. Copies of the Form SLT report and instructions, which contain complete information on reporting procedures and definitions, may be obtained at the Web site address given above in the Summary, or by contacting the SLT staff of the Federal Reserve Bank of New York at (212) 720-6300 or (646) 720-6300, or by contacting the District Federal Reserve Bank. Reporting entities that are banks, depository institutions, bank holding companies or financial holding companies (BHCs/FHCs) should file their reports with the Federal Reserve Bank of the District in which the reporting entity is located, unless instructed otherwise by their District Federal Reserve Bank. All other reporting entities should file their reports with the Federal Reserve Bank of New York (FRBNY), regardless of where they are located. The mailing address is: Federal Reserve Bank of New York, Statistics Function, 4th Floor, 33 Liberty Street, New York, NY 10045-0001. Inquiries also may be made to Dwight Wolkow by telephone (202) 622-1276, or by e-mail: dwight.wolkow@treasury.gov.

When to Report: In any month in which the consolidated total of all reportable long-term U.S. and foreign securities for a reporting entity has a total fair value equal to or more than the exemption level on the last business day of that month (the “as-of date”), that reporting entity must submit the Form SLT report for that month. In addition, the reporting entity also must report on Form SLT for each remaining month in that calendar year, regardless of the consolidated total of reportable long-term U.S. and foreign securities held in any subsequent month. The Form SLT report must be submitted to the Federal Reserve Bank no later than the 23rd calendar day of the month following the report as-of date. If the due date of the report falls on a weekend or holiday, the Form SLT report should be submitted the following business day. These mandatory reporting requirements will be phased in during 2011. In 2011, the Form SLT will be required to be submitted quarterly as of September 30 and December 30, with the mandatory monthly reporting on Form SLT beginning with the report as of January 31, 2012.

Paperwork Reduction Act Notice: This data collection has been approved by the Office of Management and Budget (OMB) in accordance with the Paperwork Reduction Act and assigned control number 1505-0235. An agency may not conduct or sponsor, and a person is not required to respond to, a collection of information unless it displays a valid control number assigned by OMB. The estimated average burden associated with this collection of information, when fully implemented, is 11.4 hours per respondent per filing. The estimated average burden per respondent varies widely from about 17 hours for a U.S.-resident custodian filing Part A and Part B to about six and one half hours for a U.S.-resident issuer or U.S.-resident end-investor filing Part B. Comments concerning the accuracy of this burden estimate and suggestions for reducing this burden should be directed to the Department of the Treasury, Attn: Administrator, International Portfolio Investment Data Reporting Systems, Room 5422, Washington, DC 20220, and to OMB, Attn: Desk Officer for the Department of the Treasury, Office of Information and Regulatory Affairs, Washington, DC 20503.

Dwight Wolkow,
Administrator, International Portfolio Investment Data Reporting Systems.

[FR Doc. 2011-15924 Filed 6-24-11; 8:45 am]

BILLING CODE 4810-25-P